DEPARTMENT OF TRANSPORTATION

National Highway Traffic Safety Administration

[Docket No. NHTSA-2003-16612]

Notice of Receipt of Petition for Decision That Nonconforming 2002 Ferrari 360 Spider and Coupe Passenger Cars Manufactured From September 1, 2002 Through December 31, 2002 Are Eligible for Importation

AGENCY: National Highway Traffic Safety Administration, DOT.

ACTION: Notice of receipt of petition for decision that nonconforming 2002 Ferrari 360 Spider and Coupe passenger cars manufactured from September 1, 2002 through December 31, 2002 are eligible for importation.

SUMMARY: This document announces receipt by the National Highway Traffic Safety Administration (NHTSA) of a petition for a decision that 2002 Ferrari 360 Spider and Coupe passenger cars manufactured from September 1, 2002 through December 31, 2002 that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is January 12, 2004.

ADDRESSES: Comments should refer to the docket number and notice number, and be submitted to: Docket Management, Room PL-401, 400 Seventh St., SW., Washington, DC 20590. (Docket hours are from 9 a.m. to 5 p.m.).

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Coleman Sachs, Office of Vehicle Safety Compliance, NHTSA (202-366-3151)

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA has previously decided that 2002 Ferrari 360 passenger cars manufactured before September 1, 2002 are eligible for importation, and assigned vehicle eligibility number VSP-402 to those vehicles. See notice announcing decision published on April 3, 2003 at 68 FR 16346. Automobile Concepts, Inc. of North Miami, Florida (“AMC”) (Registered Importer 01-278) has petitioned NHTSA to decide whether 2002 Ferrari 360 Spider and Coupe passenger cars manufactured from September 1, 2002 through December 31, 2002 are eligible for importation into the United States. The vehicles which AMC believes are substantially similar are 2002 Ferrari 360 Spider and Coupe passenger cars manufactured from September 1, 2002 through December 31, 2002 that were manufactured for importation into, and sale in, the United States and certified by their manufacturer as conforming to all applicable Federal motor vehicle safety standards.

The petitioner claims that it carefully compared non-U.S. certified 2002 Ferrari 360 Spider and Coupe passenger cars manufactured from September 1, 2002 through December 31, 2002 to their U.S.-certified counterparts, and found the vehicles to be substantially similar with respect to compliance with most Federal motor vehicle safety standards.

AMC submitted information with its petition intended to demonstrate that non-U.S. certified 2002 Ferrari 360 Spider and Coupe passenger cars manufactured from September 1, 2002 through December 31, 2002, as originally manufactured, conform to many Federal motor vehicle safety standards in the same manner as their U.S. certified counterparts, or are capable of being readily altered to conform to those standards.

Specifically, the petitioner claims that non-U.S. certified 2002 Ferrari 360 Spider and Coupe passenger cars manufactured from September 1, 2002 through December 31, 2002 are identical to their U.S. certified counterparts with respect to compliance with Standard Nos. 102 Transmission Shift Lever Sequence, 103 Defrosting and Defogging Systems, 104 Windshield Wiping and Washing Systems, 106 Brake Hoses, 109 New Pneumatic Tires, 113 Hood Latch Systems, 116 Brake Fluid, 124 Accelerator Control Systems, 135 Passenger Car Brake Systems, 202 Head Restraints, 204 Steering Control Rearward Displacement, 205 Glazing Materials, 206 Door Locks and Door Retention Components, 207 Seating Systems, 212 Windshield Retention, 216 Roof Crush Resistance, 219 Windshield Zone Intrusion, and 302 Flammability of Interior Materials.

The petitioner also contends that the vehicles are capable of being readily altered to meet the following standards, in the manner indicated:

Standard No. 101 Controls and Displays: (a) Inscription of the word “brake” on the instrument cluster in place of the international ECE warning symbol; (b) modification of the speedometer to read in miles per hour. The petitioner states that these modifications will be accomplished by programming the instrument cluster with downloaded U.S. version information, which also results in the appropriate seat belt warning symbol being displayed.

Standard No. 108 Lamps, Reflective Devices and Associated Equipment: (a) Installation of U.S.-model front and rear sidemarker assemblies; (b) modification of the tail lamp assembly wiring so that the tail lamps will operate in the same manner as those on U.S.-certified vehicles.

Standard No. 110 Tire Selection and Rims: Installation of a tire information placard.

Standard No. 111 Rearview Mirror: Inscription of the required warning statement on the face of the passenger side rearview mirror.

Standard No. 114 Theft Protection: Programming the instrument cluster with downloaded U.S. version information.

Standard No. 118 Power Window Systems: Inspection of each vehicle and installation, on vehicles that are not already so equipped, of a relay so that the windows will not operate with the ignition switched off.

Standard No. 201 Occupant Protection in Interior Impact: Inspection of all vehicles and installation, on vehicles that are not already so equipped, of trim components that are necessary to comply with the standard's upper interior impact requirements. The petitioner states that it will install parts previously tested to the standard's requirements by another registered importer, J.K. Technologies LLC of Baltimore, Maryland. For the Spider version of the vehicle, the petitioner identified these parts as including the left and right pillar covers, the windscreen, and linings associated with those components. For the Coupe, the petitioner identified the left and right side rails, the right central pillar, the left pillar, and linings associated with those components.

Standard No. 208 Occupant Crash Protection: Inspection of all vehicles and replacement of any seat belts, air bag control units, air bags, and knee bolsters with U.S.-model components on vehicles that are not already so equipped. Petitioner states that the vehicle should be equipped with an automatic restraint system consisting of driver's and passenger's air bags and knee bolsters, air bag crash sensors, and an air bag control unit. Petitioner also states that the vehicle should be equipped with combination lap and shoulder belts that are self-tensioning and that release by means of a single red pushbutton. Petitioner further states that the vehicle is equipped with a seat belt warning lamp.

Standard No. 209 Seat Belt Assemblies: Inspection of all vehicles and replacement of the seat belt assemblies with U.S.-model components on vehicles that are not already so equipped.

Standard No. 210 Seat Belt Assembly Anchorages: Inspection of all vehicles and replacement of the seat belt anchorages with U.S.-model components on vehicle that are not already so equipped.

Standard No. 214 Side Impact Protection: Inspection of all vehicles to ensure that they are equipped with door bars identical to those in U.S. certified models and installation of those components on vehicles that are not already so equipped.

Standard No. 225 Child Restraint Anchorage Systems: Installation of U.S.-model tether anchorages in all coupe model vehicles.

Standard No. 301 Fuel System Integrity: Replacement of the charcoal canister, air pump, fuel filler neck, and rollover valve with U.S.-model components.

Standard No. 401 Interior Trunk Release: Installation of additional cable and an actuator to permit the trunk lid to be released from inside the trunk.

The petitioner states that all vehicles must be inspected prior to importation to ensure that they are equipped with anti-theft devices identical to those found on the U.S.-certified model, which are necessary to meet the requirements of the Theft Prevention Standard found in 49 CFR part 541. The petitioner states that the U.S.-model component will be installed on any vehicles that are not already so equipped.

In addition, the petitioner states that front and rear bumper reinforcements must be added to the vehicles to comply with the Bumper Standard found in 49 CFR part 581. The petitioner states that it will use components that have already been tested to the requirements of the Bumper Standard by another registered importer, Webautoworld of Pompano Beach, Florida.

The petitioner also states that a vehicle identification plate must be affixed to the vehicle near the left windshield post and a reference and certification label must be affixed to the edge of the driver's side door or to the latch post nearest the driver to meet the requirements of 49 CFR part 565. In addition, a certification label must be affixed to the driver's side doorjamb to meet the requirements of 49 CFR part 567.

Interested persons are invited to submit comments on the petition described above. Comments should refer to the docket number and be submitted to: Docket Management, Room PL-401, 400 Seventh St., SW., Washington, DC 20590. [Docket hours are from 9 a.m. to 5 p.m.]. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: December 3, 2003.
Kenneth N. Weinstein,
Associate Administrator for Enforcement.

[FR Doc. 03-30653 Filed 12-10-03; 8:45 am]

BILLING CODE 4910-59-P